FEDERAL ELECTION COMMISSION

Sunshine Act Meeting

TIME AND DATE: Thursday, June 6, 2019 at 2:00 p.m.

PLACE: 1050 First Street NE, Washington, DC (12th Floor).

STATUS: This meeting will be open to the public.

MATTERS TO BE CONSIDERED: Correction and Approval of Minutes for April 25, 2019.

Draft Advisory Opinion 2019-07: Area 1 Security, Inc.

Management and Administrative Matters

CONTACT PERSON FOR MORE INFORMATION: Judith Ingram, Press Officer, Telephone: (202) 694-1220.

Individuals who plan to attend and require special assistance, such as sign language interpretation or other reasonable accommodations, should contact Dayna C. Brown, Secretary and Clerk, at (202)694-1040, at least 72 hours prior to the meeting date.

Dayna C. Brown,
Secretary and Clerk of the Commission.

[FR Doc. 2019-11651 Filed 5-31-19; 11:15 am]

BILLING CODE 6715-01-P